DEPARTMENT OF THE INTERIOR

Fish and Wildlife Service

Industrial Gas Pipeline Right-of-Way Permit Application Crossing Fish and Wildlife Service National Wildlife Refuge

AGENCY: Fish and Wildlife Service, Department of the Interior.

ACTION: Notice.

SUMMARY: The U.S. Fish and Wildlife Service (Service) advises the public that Air Products, L.P., of Houston, Texas, has submitted an application to install a 10-inch nominal pipeline for transportation of industrial gas from Bayport, Texas, to Freeport, Texas, containing approximately 52.7 miles in length and crossing portions of Harris, Galveston, and Brazoria Counties, Texas. The pipeline will be within an existing 300-foot wide pipeline right-of-way corridor that crosses the Brazoria National Wildlife Refuge, in Brazoria County, Texas. The portion that will cross the Service land is approximately 165.11 rods and will utilize a 12-foot by 55-foot surface site, in Brazoria County, Texas. The pipeline will consist of 10¾ inches O.D. steel line pipe, 0.365-inch wall thickness, API specification 5L Grade X-42, coated with fusion bonded epoxy, and cathodically protected, and will be buried at a minimum of 5 feet. An Environmental Analysis and Cultural Resources Review has been prepared and is on file.

This notice informs the public that the Service will be proceeding with the processing of the application, the compatibility determination and the approval processing which includes the preparation of the terms and conditions of the permit.

DATES: Written comments should be received on or before January 28, 2002 to receive consideration by the Service.

ADDRESSES: Comments should be addressed to: Regional Director, U.S. Fish and Wildlife Service, Division of Realty, Attention: Lena V. Marie, Realty Specialist, P.O. Box 1306, Albuquerque, New Mexico 87103-1306, telephone number 505-248-7411 or fax number 505-248-6803.

SUPPLEMENTARY INFORMATION: The Refuge Manager for the Brazoria National Wildlife Refuge has approved the route of the pipeline that lies within an existing 300-foot wide right-of-way corridor.

Right-of-Way applications for pipelines are to be filed in accordance with Section 28 of the Mineral Leasing Act of 1920 (30 U.S.C.), as amended by the Act of November 16, 1973, (37 Stat. 576, Public Law 93-153).

Dated: November 26, 2001.
Esther M. Pringle,
Acting Regional Director.

[FR Doc. 01-31858 Filed 12-27-01; 8:45 am]

BILLING CODE 4310-55-M